NATIONAL SCIENCE FOUNDATION

Advisory Committee for Polar Programs; Notice of Meeting

In accordance with the Federal Advisory Committee Act (Pub. L. 92-463, as amended), the National Science foundation announces the following meeting:

Name: Advisory Committee for Polar Programs (1130).

Date/Time: May 3-5, 2000, 8:30 A.M. to 5 P.M.

Place: NSF, 4201 Wilson Blvd., Room 630/730, Arlington, VA 22230.

Type of Meeting: Closed.

Contact Persons: Dr. Michael Ledbetter, Program Manager, Arctic System Science, Room 755S, National Science Foundation, 4201 Wilson Blvd, Arlington, VA 22230. (703) 306-1029.

Purpose of Meeting: To provide advice and recommendations concerning proposals submitted to NSF for financial support.

Agenda: To review and evaluate research proposals submitted to the Surface Heat Budget Phase 3 (NSF 00-19) as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: April 3, 2000.
Karen J. York,
Committee Management Officer.

[FR Doc. 00-8497 Filed 4-5-00; 8:45 am]

BILLING CODE 7555-01-M